DEPARTMENT OF LABOR

Veterans' Employment and Training Service

Veterans Workforce Investment Program

AGENCY: Veterans' Employment and Training Service, Department of Labor.

Announcement Type: New Notice of Availability of Funds and Solicitation for Grant Applications. The full announcement is posted on http://www.grants.gov.

Funding Opportunity Number: SGA 10-02.

Key Dates: The closing date for receipt of applications is 30 days after publication via http://www.grants.gov.

Funding Opportunity Description

The U.S. Department of Labor (USDOL), Veterans' Employment and Training Service (VETS), announces a grant competition under the Veterans' Workforce Investment Program (VWIP) for Program Year (PY) 2010, as authorized under section 168 of the Workforce Investment Act (WIA) of 1998. This Solicitation for Grant Applications (SGA) notice contains all of the necessary information and forms needed to apply for grant funding. Selected programs will assist eligible Veterans by providing employment, training, support services, credentialing, networking information, and/or other assistance.WIA section 168, 29 U.S.C. 2913 authorizes the Department of Labor to make grants to meet the needs for workforce investment activities of Veterans with service-connected disabilities, Veterans who have significant barriers to employment, Veterans who served on active duty in the armed forces during a war or in a campaign or expedition for which a campaign badge has been authorized, and recently separated Veterans within 48 months of discharge (under conditions other than dishonorable). Veterans who received a “dishonorable” discharge are ineligible for VWIP services. Priority of service for Veterans in all Department of Labor funded training programs is established in 38 U.S.C. 4215.

VWIP grants are intended to address two objectives: (a) To provide services to assist in reintegrating eligible veterans into meaningful employment within the labor force; and (b) to stimulate the development of effective service delivery systems that will address the complex employability problems facing eligible veterans.

Projects that support the President's commitment to “Green Energy Jobs” and propose a clear strategy for training and employment in the renewable energy economy, are considered unique and innovative and will receive priority consideration.

The full Solicitation for Grant Application is posted on http://www.grants.gov under U.S. Department of Labor/VETS. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed at Washington, DC, this 22nd day of March 2010.
Cassandra R. Mitchell,
Grant Officer.

[FR Doc. 2010-6691 Filed 3-25-10; 8:45 am]

BILLING CODE 4510-79-P